DEPARTMENT OF THE INTERIOR

Office of the Secretary

Non-Use Valuation Survey, Klamath Basin; Thirty-Day Notice Requesting Additional Public Comments

AGENCY: U.S. Department of the Interior.

ACTION: Thirty-day notice requesting additional public comments.

SUMMARY: In compliance with section 3506(c)(2)(A) of the Paperwork Reduction Act of 1995, the Office of the Secretary of the Department of the Interior announces the revision of an information collection “Klamath Non-use Valuation Survey,” Office of Management and Budget (OMB) Control No. 1090-0010, and that it is seeking comments on the revised information collection. As required by the Paperwork Reduction Act of 1995 and as part of our continuing efforts to reduce paperwork and respondent burden, we invite the general public and other Federal agencies to take this opportunity to comment on this information collection.

ADDRESSES: You may submit your comments directly to the Desk Officer for the Department of the Interior (OMB 1090-0010), Office of Information and Regulatory Affairs, OMB, by electronic mail at OIRA_DOCKET@omb.eop.gov or by fax at 202-395-5806. Please also send a copy of your comments to the Department of the Interior; Office of Policy Analysis, Attention: Don Bieniewicz, Mail Stop 3530; 1849 C Street, NW., Washington, DC 20240. If you wish to e-mail comments, the e-mail address is Donald_Bieniewicz@ios.doi.gov. Reference “Klamath Non use valuation survey” in your e-mail subject line. Include your name and return address in your e-mail message and mark your message for return receipt.

DATES: OMB has 60 days to review this request but may act after 30 days, therefore you should submit your comments on or before March 18, 2011.

FOR FURTHER INFORMATION CONTACT: Benjamin Simon, Economics Staff Director, Office of Policy Analysis, U.S. Department of the Interior telephone at 202-208-5978 or by e-mail at Benjamin_Simon@ios.doi.gov. To see a copy of the entire ICR submitted to OMB, go to http://www.reginfo.gov (Information Collection Review, Currently Under Review).

SUPPLEMENTARY INFORMATION:

I. Abstract

This Notice supplements the Notices that were published on August 30, 2010 and September 8, 2010.

Office of Management and Budget (OMB) regulations at 5 CFR 1320, which implement the Paperwork Reduction Act of 1995 (Pub. L. 104-13), require that interested members of the public and affected agencies have an opportunity to comment on information collection and recordkeeping activities (see 5 CFR 1320.8(d)). This notice identifies an information collection activity that the Office of the Secretary has revised and resubmitted to OMB.

This Notice is being published in order to provide the public with an opportunity to comment on revisions to the Klamath Non-use Valuation survey. On August 30, 2010, the Agency published a 30-day notice requesting comments and received one general comment on the overall design of the project, but no comments on the survey instrument. The pilot test was approved by OMB on December 14, 2010. However, the Agency received additional comments on the survey instrument subsequent to the approval of the information collection by OMB. These comments focused on the background material and description of the no action and action alternatives. Revisions were made in response to these comments.

While the revised survey is being tested using cognitive interviews, individuals can submit comments to OMB on the revised survey at the address above.

The Klamath River provides habitat for fall and spring run Chinook salmon (Oncorhynchus tshawytscha), coho salmon (Oncorhynchus kisutch), steelhead trout (Oncorhynchus mykiss), green sturgeon (Acipenser medirostris), Pacific lamprey (Lampetra tridentate), and Pacific eulachon (Thaleichthys pacificus). Some of these species are important components of non-tribal harvest (e.g., fall Chinook, steelhead), some have important subsistence and cultural value to Klamath Basin tribes (e.g., salmon, sturgeon, lamprey, eulachon), and some are at low levels of abundance or Endangered Species Act-listed (e.g., spring Chinook, lamprey, coho, eulachon).

Studies on the potential removal of four dams on the Klamath River owned by PacifiCorp are being conducted as a result of the Klamath Hydroelectic Settlement Agreement (KHSA) executed February 18, 2010. Under the KHSA, the Secretary of the Interior is to determine by March 31, 2012, whether the potential removal of these dams will advance restoration of the salmonid fisheries of the Klamath Basin and is in the public interest, which includes but is not limited to consideration of potential impacts on affected local communities and Tribes. The determination will be based on a number of factors, including an economic analysis. One part of the economic analysis is a non-use valuation survey that is designed to determine the potential benefits of dam removal that may accrue to members of the U.S. public who value such improvements regardless of whether they consume Klamath Basin fish or visit the Klamath Basin. Non-use valuation surveys, such as the one discussed herein, are routinely included as a part of the economic analysis for large-scale water development projects.

II. Data

Title: Klamath Non-Use Valuation Survey.

OMB Control Number: 1090-0010.

Type of Review: Revision of an approved collection.

Affected Entities: Households.

Respondent's Obligation: Voluntary.

Frequency of Response: One time.

Estimated Annual Number of Respondents: 10,400 households who will receive the survey (3200 respondents and 7,200 non-respondents).

Estimated Total Annual Responses: 3200.

Estimated Time per Response: The base for this survey is 10,400 households. The households will be divided into two mailing groups, at a 10/90 split. The first wave of mailings will be to 10% of the households. Each household will receive a prenotification postcard notification, which will take 30 seconds to read, followed by the first mailing of the survey. 17% of households are estimated to respond, which will take 30 minutes. Non-respondents will take 3 minutes. The second mailing will be sent to the remaining 83% of non-respondent households. 10% of the households are estimated to respond to the second mailing, taking 30 minutes. The second group of non-respondents are estimated to spend 3 minutes. The Department will then conduct preliminary analysis.

The second wave of mailings will be to the remaining 90% of the households. Each household will receive a prenotification postcard notification, which will take 30 seconds to read, followed by the first mailing of the survey. 17% of households are estimated to respond, which will take 30 minutes. Non-respondents will take 3 minutes. The second phase will be sent to the remaining 83% of non-respondent households. 10% of the households are estimated to respond to the second mailing, taking 30 minutes. The second group of non-respondents are estimated to spend 3 minutes.

The second group of non-respondents will be sent a reminder letter, taking 30 seconds. The letter will provide the web address of the survey and a toll-free number and email for the respondent to call or write to get another copy of the survey. 5% of the households are estimated to complete the survey, taking 30 minutes.

After the reminder mailing, 20% of the nonrespondents will be sent a letter by Federal Express or Priority Mail with a letter and a much shorter version of the survey, taking approximately 30 seconds to read. It is assumed that 65% of the non-respondent households will have a phone number. For respondents with telephone numbers, the letter and survey will be followed by a phone call from a live operator who will either talk to the household or leave a message reiterating the higher incentive and offering to mail another copy of the survey if the household needs one. DOI expects that 20% of nonrespondents will complete the shorter survey after the phone call reminder, taking 10 minutes. The phone call without the completing the shorter survey is estimated to take 5 minutes. For the 35% of households without telephone numbers, DOI expects that 10% of nonrespondents will complete the survey after receiving the Federal Express letter. DOI estimates that 10% of nonrespondants will spend 5 minutes on the shorter survey and letter. DOI estimates 90% nonrespondents will spend 3 minutes on the survey and letter.

Estimated Total Annual Burden Hours: 2,571 hours.

III. Request for Comments

On August 30, 2010, we published in the Federal Register a request for public comments on this proposed survey. Revisions were subsequently made to the survey in response to comments that were received. This notice provides the public with an additional opportunity to comment on the revised survey. The Department of the Interior invites comments on:

(1) Whether or not the collection of information is necessary for the proper performance of the functions of the agency, including whether the information will have practical utility;

(2) The accuracy of the agency's estimate of the burden of the collection and the validity of the methodology and assumptions used;

(3) Ways to enhance the quality, utility, and clarity of the information to be collected; and

(4) Ways to minimize the burden of the collection of information on those who are to respond, including through the use of appropriate automated, electronic, mechanical, or other collection techniques or other forms of information technology.

Burden means the total time, effort, or financial resources expended by persons to generate, maintain, retain, disclose, or provide information to or for a Federal agency.

An agency may not conduct or sponsor, and a person is not required to respond to, a collection of information unless it displays a currently valid Office of Management and Budget control number.

Dated: February 11, 2011.
Benjamin M. Simon,
Economics Staff Director, Office of Policy Analysis.

[FR Doc. 2011-3506 Filed 2-15-11; 8:45 am]

BILLING CODE 4310-RK-P